DEPARTMENT OF THE INTERIOR

National Park Service

Notice of Inventory Completion: U.S. Department of Agriculture, Forest Service, Angeles National Forest, Arcadia, CA

AGENCY: National Park Service, Interior.

ACTION: Notice.

Notice is here given in accordance with the Native American Graves Protection and Repatriation Act (NAGPRA), 25 U.S.C. 3003, of the completion of an inventory of human remains in the possession of the U.S. Department of Agriculture, Forest Service, Angeles National Forest, Arcadia, CA. The human remains were removed from a site at Chilao Flats, Angeles National Forest, Los Angeles County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Angeles National Forest professional staff in consultation with representatives of the San Manuel Band of Serrano Mission Indians of the San Manuel Reservation, California; Santa Ynez Band of Chumash Mission Indians of the Santa Ynez Reservation, California; Native American Heritage Commission; and over 70 individuals representing nonfederally recognized Indian groups.

In 1954, human remains representing a minimum of one individual were removed from archeological site 05¯01¯51¯08 (CA¯LAn¯1010), located in Chilao Flats, Angeles National Forest, Los Angeles County, CA, during salvage excavations conducted by archeologists from the Southwest Museum, Highland Park, CA, and the Archaeological Survey Association. The excavations were undertaken in response to discovery of human remains and artifacts during construction of a sewer line for a Forest Service residence. Human bone (some fragments burned, others unburned or slightly burned) and cultural items were recovered. Following the excavation, the human remains were curated at the Southwest Museum under accession number 28¯S until 2004, when they were transferred to Angeles National Forest. Records indicate that some material from this excavation was loaned back to the Angeles National Forest in the early 1960s at which time some of it was lost or stolen. No known individual was identified. The 69 associated funerary objects are 11 pieces of charcoal, four fragments of red garnet, one piece of jasper, five ochre/hematite fragments, one chalcedony flake, one flake identified as chipped stone, two obsidian flakes, three quartz crystals, six quartz flakes, three unidentified lithics, one groundstone, four groundstone fragments, six steatite rim fragments, one burnt fragment of a clay pipe, one pelican stone, one pestle, one quartzite projectile point, sixteen stone disc beads, and one incised animal bone fragment.

Based on archeological, ethnohistoric, and linguistic evidence, the human remains and associated funerary objects show a cultural affiliation with the Serrano peoples. The bead data suggest that the human remains from CA¯Lan¯1010 were interred during the Middle period (800 B.C. to A.D. 100). Linguistic and ethnohistoric evidence shows that at the beginning of the Middle period, Takic-speaking peoples, who include both Gabrielino/Tongva peoples and the Serrano peoples, moved into the area where the Angeles National Forest is today located. The two groups had a common heritage, but were diverging by the beginning of the Middle period. Analysis of historical records from missions in the area of the San Gabriel Mountains shows that at the time of mission recruitment, in the 16th and 17th centuries, the occupants of Chilao were descended from the Middle period, Phase 2a people of Chilao Flats. The present-day San Manuel Band of Serrano Mission Indians of the San Manuel Reservation, California traces a shared group identity with the Serrano cultural groups that inhabited the area around the site during the Middle period.

Officials of Angeles National Forest have determined that, pursuant to 25 U.S.C. 3001 (9¯10), the human remains described above represent the physical remains of at least one individual of Native American ancestry. Officials of Angeles National Forest also have determined that, pursuant to 25 U.S.C. 3001 (3)(A), the 69 objects listed above are reasonably believed to have been placed with or near individual human remains at the time of death or later as part of the death rite or ceremony. Lastly, officials of Angeles National Forest have determined that, pursuant to 25 U.S.C. 3001 (2), there is a relationship of shared group identity that can be reasonably traced between the Native American human remains and associated funerary objects and the San Manuel Band of Serrano Mission Indians of the San Manuel Reservation, California.

Representatives of any other Indian tribe that believes itself to be culturally affiliated with the human remains and associated funerary objects should contact Jody N. Noiron, Forest Supervisor, Angeles National Forest, 701 North Santa Anita Avenue, Arcadia, CA 91006, telephone (626) 574¯1613, before December 23, 2004. Repatriation of the human remains to the San Manuel Band of Serrano Mission Indians of the San Manuel Reservation, California may proceed after that date if no additional claimants come forward.

Angeles National Forest is responsible for notifying the San Manuel Band of Serrano Mission Indians of the San Manuel Reservation, California; Santa Ynez Band of Chumash Mission Indians of the Santa Ynez Reservation, California; Native American Heritage Commission; and over 70 individuals representing nonfederally recognized Indian groups that this notice has been published.

Dated: September 27, 2004
Sherry Hutt,
Manager, National NAGPRA Program.

[FR Doc. 04-25926 Filed 11-22-04; 8:45 am]

BILLING CODE 4312-50-S